DEPARTMENT OF TRANSPORTATION

Federal Aviation Administration

14 CFR Part 39

[Docket No. 2002-NM-244-AD]

RIN 2120-AA64

Airworthiness Directives; Dassault Model Mystere-Falcon 50 and 900 Series Airplanes, and Model Falcon 2000 and 900EX Series Airplanes

AGENCY: Federal Aviation Administration, DOT.

ACTION: Notice of proposed rulemaking (NPRM).

SUMMARY: This document proposes the adoption of a new airworthiness directive (AD) that is applicable to certain Dassault Model Mystere-Falcon 50 and 900 series airplanes, and Model Falcon 2000 and 900EX series airplanes. This proposal would require temporary changes to the Airplane Flight Manual to prohibit the use of certain functions depending on whether or not the operator chooses to deactivate the global positioning system (GPS). For airplanes on which the GPS is deactivated, this proposal would require installing a deactivation locking collar on certain circuit breakers. For certain airplanes, this proposal would also require modifying the wiring of the global positioning/inertial reference system. This action is necessary to prevent the erroneous display of speed to the flightcrew, when using certain functions, which could cause the flightcrew to lose situational awareness, and possibly lose control of the airplane. This action is intended to address the identified unsafe condition.

DATES: Comments must be received by May 27, 2004.

ADDRESSES: Submit comments in triplicate to the Federal Aviation Administration (FAA), Transport Airplane Directorate, ANM-114, Attention: Rules Docket No. 2002-NM-244-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-244-AD” in the subject line and need not be submitted in triplicate. Comments sent via the Internet as attached electronic files must be formatted in Microsoft Word 97 or 2000 or ASCII text.

The service information referenced in the proposed rule may be obtained from Dassault Falcon Jet, P.O. Box 2000, South Hackensack, New Jersey 07606. This information may be examined at the FAA, Transport Airplane Directorate, 1601 Lind Avenue, SW., Renton, Washington.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-244-AD.” The postcard will be date stamped and returned to the commenter.

Availability of NPRMs

Any person may obtain a copy of this NPRM by submitting a request to the FAA, Transport Airplane Directorate, ANM-114, Attention: Rules Docket No. 2002-NM-244-AD, 1601 Lind Avenue, SW., Renton, Washington 98055-4056.

Discussion

The Direction Générale de l'Aviation Civile (DGAC), which is the airworthiness authority for France, notified the FAA that an unsafe condition may exist on certain Dassault Model Mystere-Falcon 50 and 900 series airplanes, and Model Falcon 2000 and 900EX series airplanes. The DGAC advises that the global positioning/inertial reference system (GP/IRS) that computes speeds using input from both the global positioning system (GPS) and the inertial reference system (IRS) may receive erroneous information from the GPS. The hybrid speeds that the GP/IRS computes are used to enhance the accuracy of some navigation information. However, the inputs received from the GPS are not checked for accuracy, which can cause the GP/IRS to compute erroneous parameters from the GPS speed data. This condition, if not corrected, could result in the erroneous display of speed to the flightcrew, when using certain functions, which could cause the flightcrew to lose situational awareness, and possibly lose control of the airplane.

Explanation of Relevant Service Information

Dassault has issued Service Bulletin F2000-273, Revision 1, dated October 29, 2003; Falcon Service Bulletin F900EX-181, Revision 1, dated October 29, 2003; Service Bulletin F900-318, Revision 1, dated October 15, 2003; and Falcon 50 Service Bulletin F50-416, dated October 29, 2003. These service bulletins describe procedures for modifying the GP/IRS wiring to ensure that the GP/IRS does not receive hybrid data from the GPS and the IRS. This modification includes modifying certain strapping and disconnecting and stowing certain wires, as applicable, depending on the airplane configuration.

Dassault has also issued the following temporary changes (TC) to the Airplane Flight Manuals (AFM). These TCs prohibit the use of certain functions, depending on whether or not the operator chooses to deactivate the GPS prior to further flight.

• TC 15 to the Mystere-Falcon 900 AFM, Document FM900C, dated September 23, 2003.

• TC 57 to the Falcon 900EX AFM, Document DTM561, dated September 23, 2003.

• TC 61 to the Mystere-Falcon 50 AFM, Document FM813EX, dated September 23, 2003.

• TC 122 to the Falcon 2000 AFM, Document DTM 537, dated September 23, 2003.

The DGAC classified these service bulletins and TCs to the AFMs as mandatory and issued French airworthiness directive 2003-409(B), dated October 29, 2003 to ensure the continued airworthiness of these airplanes in France.

Should an operator choose to de-activate the GPS, Service Bulletin F2000-285, dated October 15, 2003; Service Bulletin F900EX-190, dated October 15, 2003; Service Bulletin F900-324, dated October 15, 2003; and Service Bulletin F50-424, dated October 29, 2003; describe procedures for deactivating the GPS by installing a locking collar on certain circuit breakers on the overhead panel.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable service bulletins and TCs described previously, except as discussed below.

Difference Between the Proposed AD and Some Service Bulletins

Operators should note that, although the Accomplishment Instructions of some of the referenced service bulletins describe procedures for submitting a reporting card to the manufacturer, this proposed AD would not require those actions.

Differences Between French Airworthiness Directive and This Proposed AD

For the AFM revisions, the French airworthiness directive specifies a compliance time of before the next flight following the effective date of that AD. This proposed AD provides a compliance time of 7 days after the effective date of this AD. In developing an appropriate compliance time for this proposed AD, we considered the DGAC's recommendation, as well as the degree of urgency associated with the subject unsafe condition. In light of these factors, we find that a 7-day compliance time represents an appropriate interval of time for affected airplanes to continue to operate without compromising safety.

The applicability of the French airworthiness directive excludes airplanes that accomplished Dassault Service Bulletins F2000-273, F900EX-181, F900-318, or F50-416, as applicable, in service. However, we have not excluded those airplanes in the applicability of this proposed AD; rather, this proposed AD includes a requirement to accomplish the actions specified in those service bulletins. Such a requirement would ensure that the actions specified in the service bulletins and required by this proposed AD are accomplished on all affected airplanes. Operators must continue to operate the airplane in the configuration required by this proposed AD unless an alternative method of compliance is approved.

Interim Action

We consider this proposed AD interim action for Model Falcon 2000 series airplanes equipped with head-up display; for Model Falcon 900EX series airplanes; and for Model Mystere-Falcon 900 series airplanes. If final action is later identified, we may consider further rulemaking then.

Cost Impact

The FAA estimates that 543 airplanes of U.S. registry would be affected by this proposed AD, that it would take approximately 1 work hour per airplane to accomplish the proposed temporary changes to the Airplane Flight Manual, and that the average labor rate is $65 per work hour. Based on these figures, the cost impact of this proposed action on U.S. operators is estimated to be $35,295, or $65 per airplane.

For airplanes that require the wiring modification proposed by this AD, we estimate that it would take approximately 2 work hours per airplane to accomplish the modification. Based on these figures, the cost impact of this proposed action on U.S. operators is estimated to be $130 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Dassault Aviation: Docket 2002-NM-244-AD.

Applicability: Model Mystere-Falcon 50 and Model Falcon 2000 series airplanes equipped with Global Positioning/Inertial Reference System (GP/IRS) part number (P/N) HG2001-GC02, P/N HG2001-GC03, or P/N HG2001-GD03; Model Mystere-Falcon 900 and Model Falcon 900EX series airplanes equipped with GP/IRS P/N HG2001-GC03 or P/N HG2001-GD03; except those airplanes on which one of the following has been incorporated during production: Dassault Modification M2004, M3386, or M2873; certificated in any category.

Compliance: Required as indicated, unless accomplished previously.

To prevent the erroneous display of speed to the flightcrew, when using certain functions, which could cause the flightcrew to lose situational awareness, and possibly lose control of the airplane, accomplish the following:

Service Bulletin Reference

(a) The term “service bulletin,” as used in this AD, means the Accomplishment Instructions of the following service bulletins, as applicable:

(1) For the installation specified in paragraph (c) of this AD, the applicable service bulletin in Table 1 of this AD.

Table 1.—Service Bulletins for Paragraph (c) Installation
Service bulletin | Date | Model
F2000-285 | October 15, 2003 | Falcon 2000.
F900EX-190 | October 15, 2003 | Falcon 900EX.
F900-324 | October 15, 2003 | Mystere-Falcon 900.
F50-424 | October 29, 2003 | Mystere-Falcon 50.

(2) For the modification specified in paragraph (d) of this AD, the applicable service bulletin in Table 2 of this AD. Although the Accomplishment Instructions of some of these service bulletins describe procedures for submitting a reporting card to the manufacturer, this AD does not require those actions.

Table 2.—Service Bulletins for Paragraph (d) Modification
Service bulletin | Revision | Date | Model
F2000-273 | 1 | October 29, 2003 | Falcon 2000 equipped with head-up display (HUD).
F900EX-181 | 1 | October 29, 2003 | Falcon 900EX.
F900-318 | 1 | October 15, 2003 | Mystere-Falcon 900.
F50-416 | Original | October 29, 2003 | Mystere-Falcon 50.

Airplane Flight Manual Revisions

(b) Within 7 days after the effective date of this AD: Revise the Airplane Flight Manual (AFM) by accomplishing paragraphs (b)(1), (b)(2), (b)(3) and (b)(4) of this AD, as applicable. Thereafter, operate the airplane per the limitations specified in these AFM revisions.

(1) Revise the Limitations Section to include the information in TC 15 to the Mystere-Falcon 900 AFM, Document FM900C, dated September 23, 2003.

(2) Revise the Limitations Section to include the information in TC 57 to the Falcon 900EX AFM, Document DTM561, dated September 23, 2003.

(3) Revise the Limitations Section to include the information in TC 61 to the Mystere-Falcon 50 AFM, Document FM813EX, dated September 23, 2003.

(4) Revise the Limitations Section to include the information in TC 122 to the Falcon 2000 AFM, Document DTM537, dated September 23, 2003.

Note 1: When the information in TCs 15, 57, 61, and 122 has been included in general revisions of the AFM, the TCs may be removed from the AFM, provided the relevant information in the general revision is identical to that in TCs 15, 57, 61, and 122.

Installation of Deactivation Locking Collars

(c) For airplanes on which the GPS is deactivated in accordance with the applicable TC specified in paragraph (b) of this AD: Prior to further flight, install a deactivation locking collar on each GPS 1 and GPS 2 circuit breaker in accordance with the applicable service bulletin. This installation constitutes terminating action for the requirements of this AD for Model Falcon 2000 series airplanes that are not equipped with head-up display (HUD), and for Model Mystere-Falcon 50 series airplanes.

Wiring Modification

(d) For Model Falcon 2000 series airplanes equipped with HUD; for Model Falcon 900EX series airplanes; and for Model Mystere-Falcon 900 series airplanes: Within 25 months after the effective date of this AD, modify the GP/IRS wiring in accordance with the applicable service bulletin. After this modification has been completed, the applicable TC required by paragraph (b) of this AD may be removed from the AFM.

Alternative Methods of Compliance

(e) In accordance with 14 CFR 39.19, the Manager, International Branch, ANM-116, FAA, Transport Airplane Directorate, is authorized to approve alternative methods of compliance for this AD.

Note 2: The subject of this AD is addressed in French airworthiness directive 2003-409(B), dated October 29, 2003.

Issued in Renton, Washington, on April 16, 2004.
Michael J. Kaszycki,
Acting Manager, Transport Airplane Directorate, Aircraft Certification Service.

[FR Doc. 04-9500 Filed 4-26-04; 8:45 am]

BILLING CODE 4910-13-P